DEPARTMENT OF COMMERCE

International Trade Administration

[A-351-837, A-533-828, A-580-852]

Notice of Postponement of Final Antidumping Duty Determinations and Extension of Provisional Measures: Prestressed Concrete Steel Wire Strand From Brazil, India, and the Republic of Korea

AGENCY: Import Administration, International Trade Administration, Department of Commerce.

EFFECTIVE DATE: August 18, 2003.

FOR FURTHER INFORMATION CONTACT: Tisha Loeper-Viti at (202) 482-7425, AD/CVD Enforcement, Office 5, Group II, Import Administration, International Trade Administration, U.S. Department of Commerce, 14th Street and Constitution Avenue NW., Washington, DC 20230.

Postponement of Final Determinations:

The Department of Commerce (the Department) is postponing the final determinations in the antidumping duty investigations of prestressed concrete steel wire strand from Brazil, India, and the Republic of Korea.

On July 17, 2003, the Department published its affirmative preliminary determinations in these antidumping duty investigations. See Notice of Preliminary Determination of Sales at Less Than Fair Value: Prestressed Concrete Steel Wire Strand from Brazil, 68 FR 42386 (July 17, 2003), Notice of Preliminary Determination of Sales at Less Than Fair Value: Prestressed Concrete Steel Wire Strand from India, 68 FR 42389 (July 17, 2003), and Notice of Preliminary Determination of Sales at Less Than Fair Value: Prestressed Concrete Steel Wire Strand from Republic of Korea, 68 FR 42393 (July 17, 2003). These notices stated that the Department would issue its final determinations no later than 75 days after the date on which the Department issued its preliminary determinations.

Section 735(a)(2)(A) of the Tariff Act of 1930, as amended, (the Act) and 19 CFR 351.210(b)(2)(ii) provide that a final determination may be postponed until not later than 135 days after the date of the publication of the preliminary determination if, in the event of an affirmative preliminary determination, a request for such postponement is made by exporters who account for a significant proportion of exports of the subject merchandise. Additionally, the Department's regulations, at 19 CFR 351.210(e)(2)(ii), require that requests by respondents for postponement of a final determination be accompanied by a request for an extension of the provisional measures from a four-month period to not more than six months.

On July 31, 2003, in accordance with section 735(a)(2)(A) of the Act and 19 CFR 351.210(b)(2)(ii), Tata Iron and Steel Co. Ltd., the sole respondent in the investigation involving India, requested that the Department postpone its final determination in that case. On August 4, 2003, Korean Iron and Steel Wire, Ltd. (Kiswire Ltd.) and Dong-Il Steel Manufacturing Co., Ltd., two Korean producers/exporters selected as mandatory respondents, requested that the Department postpone its final determination involving the Republic of Korea. On August 6, 2003, Belgo Bekaert Arames S.A., the sole Brazilian producer and mandatory respondent, requested that the Department postpone its final determination in the case involving Brazil. These parties requested that the Department fully extend the provisional measures by 60 days in accordance with sections 773(d) of the Act and 19 CFR 351.210(e)(2). Accordingly, pursuant to section 735(a)(2)(A) of the Act and 19 CFR 351.210(b)(2)(ii), because: (1) These preliminary determinations are affirmative; (2) the requesting exporters or producers account for a significant proportion of exports of the subject merchandise in their respective investigations; and (3) no compelling reasons for denial exist, we are postponing the final determinations until no later than 135 days after the publication of the preliminary determinations in the Federal Register (i.e., until no later than December 1, 2003). Suspension of liquidation will be extended accordingly.

This notice of postponement is published pursuant to section 735(a) of the Act and 19 CFR 351.210(g).

Dated: August 12, 2003.
James J. Jochum,
Assistant Secretary for Import Administration.

[FR Doc. 03-21060 Filed 8-15-03; 8:45 am]

BILLING CODE 3510-DS-P